DEPARTMENT OF COMMERCE

International Trade Administration

North American Free Trade Agreement (NAFTA), Article 1904 Binational Panel Reviews

AGENCY: NAFTA Secretariat, United States Section, International Trade Administration, Department of Commerce.

ACTION: Notice of Completion of Panel Review of the Department of Commerce's Final Determination of Carbon and Certain Alloy Steel Wire Rod from Canada (Secretariat File No. USA-CDA-2008-1904-02).

SUMMARY: Pursuant to the Decision and Order of the Binational Panel dated October 25, 2012, the panel review was completed on December 6, 2012.

FOR FURTHER INFORMATION CONTACT: Ellen Bohon, United States Secretary, NAFTA Secretariat, Suite 2061, 14th and Constitution Avenue, Washington, DC 20230, (202) 482-5438.

SUPPLEMENTARY INFORMATION: On October 25, 2012, the Binational Panel issued a Decision and Order affirming the U.S. Department of Commerce's final determination concerning Carbon and Certain Alloy Steel Wire Rod from Canada. The Secretariat was instructed to issue a Notice of Completion of Panel Review on the 31st day following the issuance of the Notice of Final Panel Action, if no request for an Extraordinary Challenge Committee was filed. No such request was filed. Therefore, on the basis of the Panel Order and Rule 80 of the Article 1904 Panel Rules, the Panel Review was completed and the panelists were discharged from their duties effective December 6, 2012.

Dated: December 6, 2012.
Ellen M. Bohon,
United States Secretary, NAFTA Secretariat.

[FR Doc. 2012-30027 Filed 12-12-12; 8:45 am]

BILLING CODE 3510-GT-P